DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office on (301) 443-1129.

The following request has been submitted to the Office of Management and Budget for review under the Paperwork Reduction Act of 1995:

Proposed Project: Bureau of Health Professions (BHPr) Performance Data Collection (OMB No. 0915-0061) — [Revision]

This request is for approval from the Office of Management and Budget (OMB) of revised data collection activities required for collection of data at application, progress and performance reporting for the Health Resources and Services Administration (HRSA), Bureau of Health Professions (BHPr).

Over 40 BHPr programs award grants to health professions schools and training programs across the United States to develop, expand, and enhance training, and to strengthen the distribution of the health workforce. These programs are governed by the Public Health Service Act (42 U.S.C. 292 et seq.), specifically Titles III, VII, and VIII. Performance information is collected in the HRSA Performance Report for Grants and Cooperative Agreements (PRGCA). This report was formerly called the Uniform Progress Report.

The proposed data collection satisfies statutory and programmatic requirements for performance measurement and evaluation (including specific Title III, VII and VIII requirements), as well as Government Performance and Results Act (GPRA) requirements. The Affordable Care Act (Pub. L. 111-148) impacted a broad range of health workforce programs administered by BHPr. It reauthorized most of these programs and, in some cases, expanded eligibility, modified program activities, and/or established new requirements. The Affordable Care Act also created new health professions programs. Therefore, it was necessary to reexamine BHPr's existing performance measures to ensure that they address these changes, meet evolving program management needs, and respond to emerging workforce concerns.

The proposed data collection will enhance analysis and reporting of grantee training activities and education, outcomes, and intended practice locations. Data collected from these grant programs will also provide a description of the program activities of more than 2,000 reporting grantees to better inform policymakers on the barriers, opportunities, and outcomes involved in health care workforce development. The proposed measures focus on five key outcomes:

(1) Increasing the workforce supply of diverse well-educated practitioners;

(2) influencing the distribution of practitioners to practice in underserved and rural areas;

(3) enhancing the quality of education;

(4) diversifying the pipeline for new health professionals; and,

(5) supporting educational infrastructure to increase the capacity to train more health professionals.

Revisions include improving performance management at three levels of measurement: individual-level, program-specific and program cluster-level. Data collection revisions will also require the collection of some baseline data at the grant application and award stages.

The annual estimate of burden is as follows:

Instrument | Number of respondents | Responses per respondent | Total responses | Hours per response | Total burden hours
Application | 2500 | 1 | 2500 | 9 | 22,500
Program Aggregate Data Collection | 1500 | 1 | 1500 | 10 | 15,000
Individual-level Data Collection | 800 | 1 | 800 | 5 | 4,000
Total |  |  |  |  | 41,500

Written comments and recommendations concerning the proposed information collection should be sent within 30 days of this notice to the desk officer for HRSA, either by e-mail to OIRA_submission@omb.eop.gov or by fax to 202-395-6974. Please direct all correspondence to the “attention of the desk officer for HRSA.”

Dated: October 7, 2011.
Reva Harris,
Acting Director, Division of Policy and Information Coordination.

[FR Doc. 2011-26591 Filed 10-13-11; 8:45 am]

BILLING CODE 4165-15-P